DEPARTMENT OF ENERGY

Federal Energy Regulatory Commission

[Project No. 2545-205]

Avista Corporation; Notice of Intent To Prepare an Environmental Assessment

On July 3, 2024, Avista Corporation filed an application for non-capacity amendment at the Spokane River Hydroelectric Project No. 2545. The dam is located on the Spokane River in Spokane, Lincoln, and Stevens counties, Washington, and in Kootenai and Benewah counties, Idaho.

To rehabilitate the spillway at the North Channel Dam, the licensee proposed to replace all existing gates. The North Channel Dam is L-shaped, and its primary spillway structure currently consists of one 100-foot-long rolling sector gate, seven 21-foot-long Tainter gates, and one 12-foot-long Tainter gate. The proposed rehabilitation involves replacing the existing spillway gates within the same footprint without any significant change in elevation, surface area, or capacity. The project would not alter the project boundary, reservoir levels, down-ramping rate, or minimum flow requirements. The project would also continue to operate under the terms of its current license and applicable Water Quality Certification. The licensee states that no resource agencies have objected to the proposed rehabilitation, and no long-term effects to project operations or environmental resources are anticipated. Temporary impacts would be limited to ground disturbance in construction areas and a temporary suspension of aesthetic spills during construction.

On June 18, 2025, Commission staff issued a public notice for the proposed amendment, accepted the application for filing, and solicited comments, motions to intervene, and protests. The public comment period closed on July 18, 2025. On July 17, 2025, the Idaho Governor's Office of Energy & Mineral Resources filed a response to the Commission's notice.

This notice identifies Commission staff's intention to prepare an environmental assessment (EA) under the National Environmental Policy Act (42 U.S.C. 4321 et seq.) for the project.¹ Commission staff plans to issue an EA by April 10, 2026. Revisions to the schedule may be made as appropriate. The EA will be issued for a 30-day comment period. All comments filed on the EA will be reviewed by staff and considered in the Commission's final decision on the proceeding.

¹ The unique identification number for documents relating to this environmental review is EAXX-019-20-000-1762338353.

For public inquiries and assistance with making filings such as interventions, comments, or requests for rehearing, contact the Office of Public Participation at (202) 502-6595 or OPP@ferc.gov.

Any questions regarding this notice may be directed to Woohee Choi at 202-502-6336 or Woohee.Choi@ferc.gov.

(Authority: 18 CFR 2.1.)

Dated: December 18, 2025.
Debbie-Anne A. Reese,
Secretary.

[FR Doc. 2025-23709 Filed 12-22-25; 8:45 am]

BILLING CODE 6717-01-P